DEPARTMENT OF THE INTERIOR

National Park Service

Presidential Commission for the National Museum of African American History and Culture; Meeting

AGENCY: National Park Service, Interior.

ACTION: Notice of meeting.

Notice is hereby given in accordance with the Federal Advisory Committee Act, 5 U.S.C. Appendix, that the Presidential Commission for the National Museum of African American History and Culture will meet September on 24th and 25th, 2002, at the Radisson Hotel in Georgetown, at 2121 P Street, NW. Washington, D.C. The Commission will convene at 8 a.m. on the 24th and at 8 a.m. on the 25th. The Commission will adjourn at 5 p.m. on September 24th and at 2:45 PM on September 25th.

During the morning session on September 24th, 2002, the Executive Committee and the following subcommittees will present reports from their respective committees: Mission Role and Vision Committee; Site and Building Committee; Legislation, Public Liaison Committee; Fundraising, Finance and Budget Committee and the Governance and Organization Committee. During the afternoon session, the Commission will discuss the status of legislative initiatives surrounding Public Law 107-106, which established the Commission. The project's program and planning contractors”, Montage Inc.; E. Verner Johnson; and the Freelon Group, and The Taft Organization, the fundraising contractor, will also address the Commission. These contractors will discuss the status of research and studies being conducted to assist in the preparation of reports that the Commission will submit to the President and Congress.

On the morning of September 25th, the Commission will be briefed regarding alternate project locations for the Museum on or adjacent to the National Mall. Commissioners will tour the sites following the briefing. In the afternoon, the commissioners will reconvene to further discuss site and building alternatives and to determine which sites require additional evaluation.

Due to the unexpected cancellation of the original meeting space and the additional time required to locate an alternate site, this notice could not be published at least 15 days prior to the meeting date. The National Park Service regrets this delay, but is compelled to hold the meeting as scheduled because of the significant sacrifice rescheduling would require of Commissioners who have adjusted their schedules to accommodate the proposed meeting date.

The Commission meeting is open to the public. Space and facilities to accommodate the public are limited and attendees will be accommodated on a first-come basis.

Assistance to Individuals With Disabilities at the Public Meeting

The meeting site is accessible to individuals with disabilities. If you plan to attend and will need an auxiliary aid or service to participate in the meeting (e.g., interpreting service, assistive listening device, or materials in an alternative format), notify the contact person listed in this notice at least two weeks (2 weeks) before the scheduled meeting date. Attempts will be made to meet any request(s) we receive after that date, however we may not be able to make the requested auxiliary aid or service available because of insufficient time to arrange for it.

Anyone may file a written statement concerning the establishment of a National Museum for African American History and Culture with the Commission. The Commission may also permit attendees to address the assembled Commission, but may restrict the length of the presentations, as necessary to allow the Commission to complete its agenda within the allotted time.

Anyone who wishes further information concerning the meeting, or who wishes to submit a written statement, may contact Charlene Dwin Vaughn, Staff to the Commission, National Museum of African American History & Culture, National Park Service, 1849 C Street, NW., Washington, DC 20240—(telephone (202) 208-4227).

Draft minutes of the meeting will be available for public inspection approximately 12 weeks after the meeting, in room 3327, Main Interior Building, 1849 C Street, NW., Washington, DC.

Stephanie Maynor,
Acting Project Director, National Museum of African American History and Culture, Presidential Commission.

[FR Doc. 02-24063 Filed 9-20-02; 8:45 am]

BILLING CODE 4310-70-P